POSTAL SERVICE BOARD OF GOVERNORS

Sunshine Act Meeting

Date and Time: Tuesday, August 7, 2007, at 12:30 p.m.; and Wednesday, August 8, 2007, at 8:30 a.m. and 10:30 a.m.

Place: Washington, DC, at U.S. Postal Service Headquarters, 475 L'Enfant Plaza, SW., in the Benjamin Franklin Room.

Status: August 7-12:30 p.m.—Closed; August 8-8:30 a.m.—Open; August 8-10:30 a.m.—Closed.

Matters To Be Considered

Tuesday, August 7 at 12:30 p.m. (Closed)

1. Strategic Issues.

2. Preliminary Report on Goals and Performance Assessment for Fiscal Year 2008.

3. Financial Update.

4. Preliminary Fiscal Year 2008 Integrated Financial Plan and Financial Outlook.

5. Rate Case Update.

6. Labor Negotiations Update.

7. Personnel Matters and Compensation Issues.

8. Governors' Executive Session—Discussion of prior agenda items and Board Governance.

Wednesday, August 8 at 8:30 a.m. (Open)

1. Minutes of Previous Meetings, May 1-2; June 19; and July 10, 2007.

2. Remarks of the Chairman and Vice Chairman of the Board.

3. Remarks of the Postmaster General and CEO Jack Potter.

4. Committee Reports.

5. Quarterly Report on Service Performance.

6. Quarterly Report on Financial Performance.

7. Tentative Agenda for the September 25-26, 2007, meeting in Washington, DC.

Wednesday, August 8 at 10:30 a.m. (Closed)—if needed

1. Continuation of Tuesday's closed session agenda.

Contact Person for More Information: Wendy A. Hocking, Secretary of the Board, U.S. Postal Service, 475 L'Enfant Plaza, SW., Washington, DC 20260-1000. Telephone (202) 268-4800.

Wendy A. Hocking
Secretary.

[FR Doc. 07-3785 Filed 7-30-07; 4:48 pm]

BILLING CODE 7710-12-M